NUCLEAR REGULATORY COMMISSION

[Docket No. NRC-2014-0196]

Agency Information Collection Activities: Submission for the Office of Management and Budget (OMB) Review; Comment Request

AGENCY: Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register Notice with a 60-day comment period on this information collection on September 17, 2014.

1. Type of submission, new, revision, or extension: New.

2. The title of the information collection: Voluntary Reporting of Planned New Reactor Applications.

3. Current OMB approval number: 3150-XXXX.

4. The form number if applicable: N/A.

5. How often the collection is required: Annually.

6. Who will be required or asked to report: Applicants, licensees, and potential applicants report this information on a strictly voluntary basis.

7. An estimate of the number of annual responses: 5.

8. The estimated number of annual respondents: 5.

9. An estimate of the total number of hours needed annually to complete the requirement or request: 300.

10. Abstract: This voluntary information collection assists the NRC in determining resource and budget needs as well as aligning the proper allocation and utilization of resources to support applicant submittals, future construction-related activities, and other anticipated Part 50 and/or Part 52 of Title 10 of the Code of Federal Regulations (10 CFR) licensing and design certification rulemaking actions. In addition, information provided to the NRC staff is intended to promote early communications between the NRC and the respective addressees about potential 10 CFR Part 50 and/or Part 52 licensing actions and related activities, submission dates, and plans for construction and inspection activities. The overarching goal of this information collection is to assist the NRC staff more effectively and efficiently plan, schedule, and implement activities and reviews in a timely manner.

The public may examine and have copied, for a fee, publicly available documents, including the final supporting statement, at the NRC's Public Document Room, Room O-1F21, One White Flint North, 11555 Rockville Pike, Rockville, Maryland. OMB clearance requests are available at the NRC worldwide Web site: http://www.nrc.gov/public-involve/doc-comment/omb/. The document will be available on the NRC home page site for 30 days after the signature date of this notice.

Comments and questions should be directed to the OMB reviewer listed below by January 15, 2015. Comments received after this date will be considered if it is practical to do so, but assurance of consideration cannot be given to comments received after this date. Vlad Dorjets, Desk Officer, Office of Information and Regulatory Affairs (3150-XXXX), NEOB-10202, Office of Management and Budget, Washington, DC 20503.

Comments can also be emailed to Valdik_Dorjets@omb.eop.gov or submitted by telephone at 202-395-7315.

The NRC Clearance Officer is Tremaine Donnell, telephone: 301-415-6258.

Dated at Rockville, Maryland, this 10th day of December 2014.
For the Nuclear Regulatory Commission.
Tremaine Donnell,
NRC Clearance Office, Office of Information Services.

[FR Doc. 2014-29372 Filed 12-15-14; 8:45 am]

BILLING CODE 7590-01-P